DEPARTMENT OF TRANSPORTATION

Federal Aviation Administration

Notice of Intent To Rule on Application 05-10-C-00-CLE To Impose and Use the Revenue From a Passenger Facility Charge (PFC) at Cleveland Hopkins International Airport, Cleveland, OH

AGENCY: Federal Aviation Administration (FAA), DOT.

ACTION: Notice of intent to rule on application.

SUMMARY: The FAA proposes to rule and invites public comment on the application to impose and use the revenue from a PFC at Cleveland Hopkins International Airport under the provisions of the 49 U.S.C. 40117 and part 158 of the Federal Aviation Regulations (14 CFR part 158).

DATES: Comments must be received on or before April 25, 2005.

ADDRESSES: Comments on this application may be mailed or delivered in triplicate to the FAA at the following address: Detroit Airports District Office, 11677 South Wayne Road—Suite 107, Romulus, Michigan 48174.

In addition, one copy of any comments submitted to the FAA must be mailed or delivered to Mr. John C. Mok, Airport Director of the City of Cleveland at the following address: 5300 Riverside Drive, Cleveland, Ohio, 44135.

Air carriers and foreign air carriers may submit copies of written comments previously provided to the City of Cleveland under section 158.23 of Part 158.

FOR FURTHER INFORMATION CONTACT: Mr. Jason K. Watt, Program Manager, Detroit Airports District Office, 11677 South Wayne Road—Suite 107, Romulus, Michigan 48174, (734) 229-2906. The application may be reviewed in person at this same location.

SUPPLEMENTARY INFORMATION: The FAA proposes to rule and invites public comment on the application to impose and use the revenue from a PFC at Cleveland Hopkins International Airport under the provisions of the 49 U.S.C. 40117 and Part 158 of the Federal Aviation Regulations (14 CFR part 158).

On March 7, 2005, the FAA determined that the application to impose and use the revenue from a PFC submitted by the City of Cleveland was substantially complete within the requirements of section 158.25 of part 158. The FAA will approve or disapprove the application, in whole or in part, no later than July 6, 2005.

The following is a brief overview of the application.

Proposed charge effective date: December 1, 2007.

Proposed charge expiration date: October 1, 2010.

Level of the proposed PFC: $4.50.

Total estimated PFC revenue: $53,448,000.

Brief description of proposed projects: Runway 6R-24L Uncoupling, Runway 28 Safety Improvements, Midfield Deicing Pad, and Taxiway M Improvements.

Class or classes of air carriers, which the public agency has requested not be required to collect PFCs: Air Taxi.

Any person may inspect the application in person at the FAA office listed above under FOR FURTHER INFORMATION CONTACT.

In addition, any person may, upon request, inspect the application, notice and other documents germane to the application in person at the City of Cleveland.

Issued in Des Plaines, Illinois, on March 17, 2005.
Elliott Black,
Manager, Planning/Programming Branch, Airports Division, Great Lakes Region.

[FR Doc. 05-5838 Filed 3-23-05; 8:45 am]

BILLING CODE 4910-13-M